GENERAL SERVICES ADMINISTRATION

[Notice-PBS-2020-11; Docket No. 2020-0002; Sequence No. 41]

Notice of Intent To Prepare an Environmental Impact Statement for the Proposed Master Plan for the U.S. Food and Drug Administration Muirkirk Road Campus (Prince George's County, Laurel, MD)

AGENCY: National Capital Region, General Services Administration (GSA).

ACTION: Notice of Intent to prepare an Environmental Impact Statement (EIS).

SUMMARY: Pursuant to the requirements of the National Environmental Policy Act of 1969 (NEPA), the Council on Environmental Quality Regulations, GSA Order, ADM 1095.1F, Environmental Considerations in Decision Making, dated October 19, 1999, and the GSA Public Buildings Service NEPA Desk Guide, GSA plans to prepare an EIS for a proposed Master Plan for the U.S. Food and Drug Administration's (FDA) Muirkirk Road Campus (MRC), in Laurel, Maryland, located in Prince George's County. The Master Plan will provide FDA with a structured framework for developing the MRC over the next 20 years.

DATES: Applicable: December 22, 2020.

FOR FURTHER INFORMATION CONTACT: Marshall Popkin, Office of Planning and Design Quality, Public Buildings Service, GSA, National Capital Region, at 202-919-0026.

SUPPLEMENTARY INFORMATION: The GSA intends to prepare an EIS to analyze the potential impacts resulting from the proposed Master Plan to support the FDA MRC, in Laurel, Maryland, located in Prince George's County. GSA will analyze four alternatives for the proposed MRC Master Plan: (1) No Action Alternative; (2) Development at the Mod 1/Mod 2 site; (3) Hybrid of Alternatives 2 and 4; and (4) Development at the Beltsville Research Facility site. The proposed action is anticipated to impact soils and topography; traffic and transit; water resources; vegetation; wildlife; air quality; greenhouse gases and climate; utilities; and waste management. No permits are required to adopt the Master Plan. Implementation of the Master Plan in the future could require the following permits and authorizations:

• Dredge or fill permit under Section 404 of the Clean Water Act

• Coastal Zone Management Consistency Determination

• State and local permits, including water and wastewater permits, building permits, sediment and erosion control permits, grading permits, and stormwater management permits.

Background

In 1981, GSA completed an EIS that analyzed the impacts from the construction of new laboratory space at the MRC and the consolidation of four facilities in the Washington, DC, metro area and other sites in St. Louis, MO, and Cincinnati, OH. In 1990, Congress enacted the Food and Drug Revitalization Act that gave GSA the authority to grant contracts to consolidate FDA facilities. To accommodate future growth and further consolidate FDA operations, GSA is preparing an EIS to assess the impacts of development on the MRC and an increase in the employee population of up to approximately 1,800 employees, over a period of 20 years.

The purpose of the proposed action is to provide a Master Plan for the MRC to guide future site development. The proposed action is needed to accommodate projected growth at the MRC and provide the necessary office and laboratory space for FDA to conduct complex and comprehensive research and reviews.

Schedule for Decision-Making

A Draft EIS is expected to be released for public review in June 2021. The GSA will hold a public hearing on the impacts of the proposed action in July 2021, and will seek preliminary approval of the MRC Master Plan from the National Capital Planning Commission (NCPC) at NCPC's September 2021 hearing. A Final EIS will be prepared that will take into consideration all comments received on the Draft EIS, and a Record of Decision is anticipated in spring 2022. Pending completion of NEPA compliance and review by NCPC, GSA anticipates adopting the MRC Master Plan in spring 2022.

Scoping Process

In accordance with NEPA, a scoping process will be conducted to aid in determining the alternatives to be considered and the scope of issues to be addressed, as well as for identifying the significant issues related to the proposed MRC Master Plan. Scoping will be accomplished through a virtual public scoping meeting; direct mail correspondence to potentially interested persons, agencies, and organizations; and meetings with agencies having an interest in the Master Plan. It is important that Federal, regional, State, and local agencies, and interested individuals take this opportunity to identify environmental concerns that should be addressed during the preparation of the EIS.

Public Scoping Meeting

Due to the ongoing COVID-19 pandemic and state/local requirements for social distancing, a pre-recorded presentation will be available at www.gsa.gov/ncrnepa in lieu of a traditional in-person public scoping meeting. A project phone line [410-777-9537] has also been set up to listen to the presentation and to leave comments on the proposed Master Plan. The pre-recorded presentation and phone line will be available from January 4, 2021, through February 11, 2021. The GSA is publishing notices in the Washington Post and Prince George's Post announcing the meeting.

Written Comments

Agencies and the public are encouraged to provide comments on identification of potential alternatives, information, and analyses relevant to the proposed action. Comments may be provided in writing via mail or email. Verbal comments may also be provided via the project phone line. Written comments regarding the environmental analysis for the proposed MRC Master Plan must be postmarked by February 11, 2021, and sent to the following: Mr. Marshall Popkin, NEPA Compliance Specialist, Office of Planning and Design Quality, Public Buildings Service, U.S. General Services Administration, 1800 F Street NW, Room 4400, Washington, DC 20405.

Email: marshall.popkin@gsa.gov using the subject line: FDA MRC Master Plan EIS Comment.

Kristi Tunstall Williams,
Deputy Director, Office of Planning and Design Quality, Public Buildings Service, National Capital Region, U.S. General Services Administration.

[FR Doc. 2020-28212 Filed 12-21-20; 8:45 am]

BILLING CODE 6820-Y1-P